INTERNATIONAL TRADE COMMISSION

[Investigation No. 731-TA-1062 (Preliminary)]

Kosher Chicken From Canada

Determination

On the basis of the record ¹ developed in the subject investigation, the United States International Trade Commission (Commission) determines, pursuant to section 733(a) of the Tariff Act of 1930 (19 U.S.C. 1673b(a)) (the Act), that there is no reasonable indication that an industry in the United States is materially injured or threatened with material injury, or that the establishment of an industry in the United States is materially retarded, by reason of imports from Canada of ready-to-cook Kosher chicken and parts thereof (kosher chicken), provided for in subheadings 0207.11.00, 0207.12.00, 0207.1300, and 0207.14.00 of the Harmonized Tariff Schedule of the United States, that are alleged to be sold in the United States at less than fair value (LTFV).²

¹ The record is defined in sec. 207.2(f) of the Commission's Rules of Practice and Procedure (19 CFR 207.2(f)).

² Commissioner Marcia E. Miller made an affirmative determination.

Background

On December 1, 2003, a petition was filed with the Commission and Commerce by Empire Kosher Poultry, Inc., Mifflintown, PA, alleging that an industry in the United States is materially injured or threatened with material injury by reason of LTFV imports of kosher chicken from Canada. Accordingly, effective December 1, 2003, the Commission instituted antidumping duty investigation No. 731-TA-1062 (Preliminary).

Notice of the institution of the Commission's investigation and of a public conference to be held in connection therewith was given by posting copies of the notice in the Office of the Secretary, U.S. International Trade Commission, Washington, DC, and by publishing the notice in the Federal Register of December 11, 2003 (68 FR 69088, December 11, 2003). The conference was held in Washington, DC, on December 22, 2003, and all persons who requested the opportunity were permitted to appear in person or by counsel.

The Commission transmitted its determination in this investigation to the Secretary of Commerce on January 15, 2004. The views of the Commission are contained in USITC Publication 3669 (January 2004), entitled Kosher Chicken from Canada: Investigation No. 731-TA-1062 (Preliminary).

By order of the Commission.
Issued: January 20, 2004.
Marilyn R. Abbott,
Secretary.

[FR Doc. 04-1534 Filed 1-23-04; 8:45 am]

BILLING CODE 7020-02-P